DEPARTMENT OF AGRICULTURE

Forest Service

Kemmerer Ranger District, Bridger-Teton National Forest, WY; Kemmerer Grazing and Rangeland Vegetation Management Project

AGENCY: Forest Service, USDA.

ACTION: Notice of intent to prepare an environmental impact statement.

SUMMARY: The Bridger-Teton National Forest will prepare an Environmental Impact Statement to analyze the effects of continued authorization of grazing on 15 sheep allotments on the Kemmerer Ranger District in southwest Wyoming. The project area encompasses 165,575 acres of National Forest System lands within Lincoln County of western Wyoming. Most of the project area's east boundary is west of Commissary Ridge; the west boundary is Salt Creek. The center of the project area lies roughly 17 air miles northeast of Cokeville, Wyoming. The allotments included in the analysis are: Lower Salt Creek, Buckskin Knoll, Lake Alice, Smiths Fork, Aspen Springs, Basin Creek, Devil's Hole, Elk Creek, Green Knoll, Indian Creek, Lake Mountain, Pole Creek, Sams Allen Creek, South Fontenelle and Spruce Creek Allotments.

The analysis contained in the EIS will be used by the Responsible Official to decide whether or not, and if so, how to authorize livestock grazing and manage rangeland vegetation within the project area.

DATES: Comments concerning the scope of the analysis must be received by January 2, 2009. The draft environmental impact statement is expected in May of 2009 and the final environmental impact statement is expected in September of 2009.

ADDRESSES: Send written comments to Tracy Hollingshead, District Ranger, Kemmerer Ranger District, Bridger-Teton National Forest, 308 U.S. Highway 189 North, Kemmerer, WY 83101. Send electronic mail to: comments-intermtn-bridger-teton_kemmerer@fs.fed.us and on the subject line put only “Kemmerer Grazing Allotments.” Comments received in response to this solicitation, including names and addresses of those who comment, will be part of the public record for this proposed action. Comments submitted anonymously will be accepted and considered; however, anonymous comments will not provide the respondent with standing to appeal the subsequent decision.

FOR FURTHER INFORMATION CONTACT: Gary Dean, Rangeland Management Specialist, Kemmerer Ranger District, 308 U.S. Highway 189 North, Kemmerer, WY 83101 (307-877-4415), gdean@fs.fed.us. Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of this analysis is to determine if continued livestock grazing is appropriate within the project area. If livestock grazing is re-authorized then the adaptive management strategies under which grazing would be managed to maintain or achieve desired conditions and meet Forest Plan objectives. Desired conditions are defined by the Bridger Teton Land and Resource Management Plan, Forest Service Manual, and applicable laws. This effort is undertaken to comply with the 1995 Rescissions Act (Pub. L. 104-19).

Proposed Action

The proposed action is to continue to authorize livestock grazing on 15 allotments within the project area with updated livestock grazing and rangeland vegetation management direction. Resource desired conditions are identified. Grazing practices addressing frequency of grazing and of rest from grazing will be guided by the amount and diversity of vegetation given the capability of soils, as well as indicators of soil quality such as amount of ground cover, sign of active erosion and healing of headcuts. Other Best Management Practices addressing the timing, duration, and in specific settings the intensity, of use are identified. Adaptive management is part of the proposed action. Identified are: Criteria to guide management, predetermined optional courses of action used to make adaptive changes in management over time, and the focused monitoring which provides the basis for adjusting management to attain desired resource conditions. One last element of rangeland vegetation management, non-structural improvements, is included. Allotment Management Plans will become part of a re-issued term grazing permit and contain the livestock grazing and rangeland vegetation management direction identified by the Responsible Official's decision.

Possible Alternatives

To date the Bridger Teton National Forest has identified two alternatives to the proposed action: (A) No Domestic Livestock Grazing, and (B) Continuation Of Current Livestock Management. Alternative A would eliminate livestock grazing on the project area over the next five years. This alternative will demonstrate the effects of eliminating livestock grazing on the environment and more clearly illustrate the potential effects of implementing any grazing and rangeland vegetation management alternative. Alternative B would continue current grazing management practices including annual adjustments in authorized livestock numbers and season.

Responsible Official

The official responsible for this proposed action is the Kemmerer District Ranger, Kemmerer Ranger District, Bridger-Teton National Forest, 308 U.S. Highway 189 North, Kemmerer, WY 83101.

Nature of Decision To Be Made

The decision to be made, based on this analysis, is if livestock will be allowed to continue to graze on 15 allotments within the project area, and if so, under what management direction. The management direction would be either through implementation of the proposed action or a grazing alternative to the proposed action.

Preliminary Issues

Preliminary issues associated with the proposed action include:

(1) The amount and diversity of vegetation in some locations are less than the current capability of soils.

(2) Sediment delivery to drainages supporting fisheries, and retention of precipitation on uplands, as evidenced by headcutting/gullies and sign of active erosion.

(3) Wildlife values within some aspen stands are minimized by a lack of diverse aspen age classes; in some locations the diversity of herbaceous and shrub species in the understory is also diminished.

Scoping Process

The first formal opportunity to respond to the proposed action listed above is during the public scoping process (40 CFR 1501.7) which begins with the issuance of this Notice of Intent. Scoping letters will be sent to the forest mailing list of known interested parties and news releases will be made encouraging public to provide comments and input into the project. The scoping process will assist the forest in identifying specific issues to be addressed related to the purpose and need and the scope of the decision. Mail comments to the addresses given above. Ongoing information related to the proposed action and related analysis will be posted on the Bridger-Teton National Forest Web site http://www.fs.fed.us/r4/btnf.

Early Notice of Importance of Public Participation in Subsequent Environmental Review: A draft environmental impact statement (DEIS) will be prepared for comment. The comment period on the DEIS will be for a period of 45 days from the date the Environmental Protection Agency publishes the notice of availability in the Federal Register. The Forest Service believes, at this early stage, it is important to give reviewers notice of several court rulings related to public participation in the environmental review process. First, reviewers of a DEIS must structure their participation in the environmental review of the proposal so that it is meaningful and alerts an agency to the reviewers' position and contentions. Vermont Yankee Nuclear Power Corp. v. NRDC, 435 U.S. 519, 553 (1978). Also, environmental objections that could be raised at the DEIS stage but that are not raised until after completion of the final environmental impact statement may be waived or dismissed by the courts. City of Angoon v. Hodel, 803 F.2d 1016, 1022 (9th Cir. 1986) and Wisconsin Heritages, Inc. v. Harris, 490 F. Supp. 1334, 1338 (ED. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the DEIS should be as specific as possible. It is also helpful if comments refer to specific pages or chapters of the draft statement. Comments may also address the adequacy of the DEIS or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

Authority: 40 CFR 1501.7 and 1508.22; Forest Service Handbook 1909.15, Section 21.

Dated: November 6, 2008.
Tracy Hollingshead,
District Ranger, Kemmerer Ranger District, Bridger-Teton National Forest.

[FR Doc. E8-27072 Filed 11-14-08; 8:45 am]

BILLING CODE 3410-11-M